DEPARTMENT OF JUSTICE

[OMB Number 1140-0084]

Agency Information Collection Activities; Proposed eCollection eComments Requested; Revision of a Previously Approved Collection; Application/Permit for Temporary Importation of Firearms and Ammunition by Nonimmigrant Aliens

AGENCY: Bureau of Alcohol, Tobacco, Firearms and Explosives, Department of Justice.

ACTION: 60-Day notice.

SUMMARY: The Bureau of Alcohol, Tobacco, Firearms and Explosives (ATF), Department of Justice (DOJ), will be submitting the following information collection request to the Office of Management and Budget (OMB) for review and approval in accordance with the Paperwork Reduction Act of 1995.

DATES: Comments are encouraged and will be accepted for 60 days until February 6, 2024.

FOR FURTHER INFORMATION CONTACT: If you have additional comments especially on the estimated public burden or associated response time, suggestions, or need a copy of the proposed information collection instrument with instructions or additional information, contact: Victoria Kenney, FEIB/FESD, either by mail at 244 Needy Road, Martinsburg, WV 25405, by email at Victoria.Kenney@atf.gov, or telephone at 304-616-3376.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Application/Permit for Temporary Importation of Firearms and Ammunition by Nonimmigrant Aliens—ATF Form 6NIA (5330.3D) is used by nonimmigrant aliens to temporarily import firearms and ammunition into the United States for hunting or other sporting purposes. The Information Collection (IC) OMB 1140-0084 is being revised to include renumbering, removal and addition of section items, grammatical changes (sentence rephrasing/statement modification), and instruction clarification.

Overview of This Information Collection

1. Type of Information Collection: Revision of a previously approved collection.

2. The Title of the Form/Collection: Application/Permit for Temporary Importation of Firearms and Ammunition by Nonimmigrant Aliens.

3. The agency form number, if any, and the applicable component of the Department sponsoring the collection: Form number: ATF Form 6NIA (5330.3D).

Component: Bureau of Alcohol, Tobacco, Firearms and Explosives, U.S. Department of Justice.

4. Affected public who will be asked or required to respond, as well as the obligation to respond: Affected Public: State, local and tribal governments, Individuals or households. The obligation to respond is Mandatory per title 18 U.S.C. 922(g)(5) (b); 27 CFR part 478.

5. An estimate of the total number of respondents and the amount of time estimated for an average respondent to respond: An estimated 12,000 respondents will utilize the form once annually, and it will take each respondent approximately 30 minutes to complete their responses.

6. An estimate of the total annual burden (in hours) associated with the collection: The estimated annual public burden associated with this collection is 6,000 hours, which is equal to 12,000 (total respondents) * 1 (# of response per respondent) * .5 (30 minutes).

7. An estimate of the total annual cost burden associated with the collection, if applicable: There is no public cost associated with this information collection since the completed form can be emailed to ATF for processing.

Total Burden Hours
Activity | Number of respondents | Frequency (annually) | Total annual responses | Time per response (min) | Total annual burden (hours)
ATF Form 6NIA (5330.3D) | 12,000 | 1 | 12,000 | 30 | 6,000

If additional information is required contact: Darwin Arceo, Department Clearance Officer, United States Department of Justice, Justice Management Division, Policy and Planning Staff, Two Constitution Square, 145 N Street NE, 4W-218, Washington, DC.

Dated: December 4, 2023.
Darwin Arceo,
Department Clearance Officer for PRA, U.S. Department of Justice.

[FR Doc. 2023-26918 Filed 12-7-23; 8:45 am]

BILLING CODE 4410-FY-P